DEPARTMENT OF COMMERCE

National Oceanic and Atmospheric Administration

RIN 0648-XG764

Pacific Fishery Management Council; Public Meeting

AGENCY: National Marine Fisheries Service (NMFS), National Oceanic and Atmospheric Administration (NOAA), Commerce.

ACTION: Notice of public meeting.

SUMMARY: The Pacific Fishery Management Council (Pacific Council) will hold a methodology review meeting to evaluate and review fishery independent visual survey methodologies, using remotely operate vehicles (ROVs), for nearshore groundfish species off the states of Oregon and California. The meeting is open to the public.

DATES: The Pacific Council methodology review meeting will be held Tuesday, February 12 through Thursday, February 14, 2019. The meeting will begin each day at 8:30 a.m. Pacific Standard Time and will end at 5 p.m. or when business for the day has been completed. This meeting will also occur via a “listen only” webinar.

ADDRESSES: The Pacific Council methodology review meeting will be held at the NMFS Southwest Fisheries Science Center, Santa Cruz Laboratory, 110 McAllister Way, Santa Cruz, CA 95060; telephone: (831) 420-3900.

The Pacific Council methodology review meeting will also be held by webinar. To attend the “listen-only” webinar, visit this link: https://www.gotomeeting.com/webinar. Enter the Webinar ID: 951-132-995, and your email address (required).

This is a “listen only” broadcast, you may use your computer speakers or headset to listen. If you do not have a headset or computer speakers, you may use your telephone to listen to the meeting by dialing this TOLL number +1-213-929-4232 (not a toll-free number); enter the phone attendee audio access code: 733-934-828. Enter your audio phone pin (shown after joining the webinar). There will be no technical assistance available for the “listen only” webinar. If there are technical difficulties, the broadcast may end and may not be restarted.

Council address: Pacific Fishery Management Council, 7700 NE Ambassador Place, Suite 101, Portland, OR 97220.

FOR FURTHER INFORMATION CONTACT: Mr. John DeVore, Staff Officer, Pacific Fishery Management Council; telephone: (503) 820-2413.

SUPPLEMENTARY INFORMATION: The purpose of the Pacific Council methodology review meeting is to evaluate and review fishery independent visual survey methodologies, using ROVs, for nearshore groundfish species off the states of Oregon and California. West coast nearshore groundfish stock assessments have identified the current lack of fishery-independent data sources as a research and data need. Both Oregon and California have conducted ROV surveys of rockfish in nearshore areas, focusing on rocky reef habitat, and, in California, on areas inside and outside of Marine Protected Areas.

The goals and objectives specific to the review of the new ROV survey methodologies are to: (1) Evaluate the sampling design used in recent (2010-17) ROV surveys conducted by the states of Oregon and California; (2) evaluate proposed methods to develop indices or estimates of abundance for these ROV surveys, including using habitat/substrate type and Marine Protected Area designation as covariates; (3) evaluate proposed methods to estimate size and age compositions of observed species; and (4) identify potential impediments to developing independent indices or estimates of abundance using these ROV surveys and incorporating them into stock assessments. This methodology review will likely provide the basis for future ROV surveys and the development of indices or estimates of abundance for those areas surveyed in Oregon and California, as well as the expansion of such methods to other areas within those states and/or within Washington State.

No management actions will be decided by the Pacific Council methodology review meeting participants. The Pacific Council methodology review meeting participants' role will be development of recommendations and reports for consideration by the Pacific Council's Scientific and Statistical Committee and the Pacific Council at their April meeting in Rohnert Park, CA.

Although nonemergency issues not contained in the meeting agenda may be discussed, those issues may not be the subject of formal action during these meetings. Action will be restricted to those issues specifically listed in this notice and any issues arising after publication of this notice that require emergency action under Section 305(c) of the Magnuson-Stevens Fishery Conservation and Management Act, provided the public has been notified of the intent of the Pacific Council meeting participants to take final action to address the emergency.

Special Accommodations

This meeting is physically accessible to people with disabilities. Requests for sign language interpretation or other auxiliary aids should be directed to Mr. Kris Kleinschmidt (503) 820-2411 at least 10 days prior to the meeting date.

Dated: February 1, 2019.
Jennifer M. Wallace,
Acting Director, Office of Sustainable Fisheries, National Marine Fisheries Service.

[FR Doc. 2019-01291 Filed 2-5-19; 8:45 am]

BILLING CODE 3510-22-P